DEPARTMENT OF COMMERCE

International Trade Administration

[A-201-830]

Carbon and Certain Alloy Steel Wire Rod From Mexico: Final Results of Antidumping Duty Administrative Review, and Final Determination of No Shipments; 2018-2019

AGENCY: Enforcement and Compliance, International Trade Administration, Department of Commerce.

SUMMARY: The Department of Commerce (Commerce) determines that sales of carbon and certain alloy steel wire rod (wire rod) from Mexico were made at less than normal value (NV) during the period of review (POR), October 1, 2018, through September 30, 2019.

DATES: Applicable August 18, 2021.

FOR FURTHER INFORMATION CONTACT: Benjamin A. Smith, AD/CVD Operations, Office III, Enforcement and Compliance, International Trade Administration, U.S. Department of Commerce, 1401 Constitution Avenue NW, Washington, DC 20230; telephone: (202) 482-2181.

SUPPLEMENTARY INFORMATION:

Background

On February 12, 2021, Commerce published the Preliminary Results of this review in the Federal Register.¹ We invited interested parties to comment on the Preliminary Results. Deacero S.A.P.I de C.V. (Deacero) was selected for individual examination as a mandatory respondent in this review. We received case briefs from Deacero and Nucor Corporation (Nucor, or the petitioner).² Subsequently, we received a rebuttal brief from the petitioner and a letter in lieu of a rebuttal brief from Deacero.³ On May 27, 2021, we extended the deadline for the final results of the administrative review until August 11, 2021.⁴ A complete summary of the events that occurred since publication of the Preliminary Results is found in the Issues and Decision Memorandum.⁵ Commerce conducted this review in accordance with section 751 of the Tariff Act of 1930, as amended (the Act).

¹ See Carbon and Certain Alloy Steel Wire Rod from Mexico: Preliminary Results of Antidumping Duty Administrative Review, Preliminary Determination of No Shipments, and Partial Rescission of Antidumping Duty Administrative Review; 2018-2019, 86 FR 9322 (February 12, 2021) (Preliminary Results), and accompanying Preliminary Decision Memorandum (PDM).

² See Deacero's Letter, “Carbon and Certain Alloy Steel Wire Rod from Mexico—Case Brief,” dated March 15, 2021; and Nucor's Letter, “Carbon and Certain Alloy Steel Wire Rod from Mexico: Resubmission of Nucor's Rebuttal {sic} Brief,” dated April 5, 2021.

³ See Nucor's Letter, “Carbon and Certain Alloy Steel Wire Rod from Mexico—Rebuttal Brief,” dated March 29, 2021; and Deacero's Letter, “Carbon and Certain Alloy Steel Wire Rod from Mexico—Letter in Lieu of Rebuttal Case Brief,” dated March 29, 2021.

⁴ See Memorandum, “Carbon and Certain Alloy Steel Wire Rod from Mexico: Extension of Deadline for Final Results of Antidumping Duty Administrative Review,” dated May 27, 2021.

⁵ See Memorandum, “Decision Memorandum for the Final Results, and Final Determination of No Shipments, of the 2018-2019 Administrative Review of the Antidumping Duty Order on Carbon and Certain Alloy Steel Wire Rod from Mexico,” dated concurrently with, and hereby adopted by, this notice (Issues and Decision Memorandum).

Scope of the Order ⁶

⁶ See Notice of Antidumping Duty Orders: Carbon and Certain Alloy Steel Wire Rod from Brazil, Indonesia, Mexico, Moldova, Trinidad and Tobago, and Ukraine, 67 FR 65945 (October 29, 2002) (Order).

The merchandise subject to the Order is wire rod, in coils, of approximately round cross section, 5.00 mm or more, but less than 19.00 mm, in solid cross-sectional diameter. The subject merchandise is classifiable in the Harmonized Tariff Schedule of the United States (HTSUS) primarily under the subheadings: 7213.91.3000, 7213.91.3010, 7213.91.3011, 7213.91.3015, 7213.91.3020, 7213.91.3090, 7213.91.3091, 7213.91.3092, 7213.91.3093, 7213.91.4500, 7213.91.4510, 7213.91.4590, 7213.91.6000, 7213.91.6010, 7213.91.6090, 7213.99.0030, 7213.99.0031, 7213.99.0038, 7213.99.0090, 7227.20.0000, 7227.20.0010, 7227.20.0020, 7227.20.0030, 7227.20.0080, 7227.20.0090, 7227.20.0095, 7227.90.6010, 7227.90.6020, 7227.90.6030, 7227.90.6035, 7227.90.6050, 7227.90.6051, 7227.90.6053, 7227.90.6058, 7227.90.6059, 7227.90.6080, and 7227.90.6085. The HTSUS subheadings are provided for convenience and customs purposes only; the written product description remains dispositive.

A full description of the scope of the Order is contained in the Issues and Decision Memorandum.

Analysis of Comments Received

We addressed all issues raised in the case and rebuttal briefs in the Issues and Decision Memorandum, which is hereby adopted by this notice. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/.

Changes Since the Preliminary Results

Based on the receipt of updated sales information filed subsequent to the Preliminary Results, as well as our analysis of the comments received from parties, we have made certain revisions to the margin calculation for Deacero.⁷ For detailed information, see the Issues and Decision Memorandum.

⁷ See Issues and Decision Memorandum.

Final Determination of No Shipments

In the Preliminary Results, Commerce preliminarily determined that Grupo Villacero S.A. de C.V. (Villacero) made no shipments of subject merchandise during the POR.⁸ As we have not received any information to contradict this determination, nor comment in opposition to our preliminary finding, we continue to determine that Villacero made no shipments of subject merchandise during the POR. Consistent with our practice, we will instruct U.S. Customs and Border Protection (CBP) to liquidate any existing entries of subject merchandise produced by Villacero, but exported by other parties, at the rate for the intermediate reseller, if available, or at the all-others rate.

⁸ See Preliminary Results, 86 FR at 9323 and accompanying PDM at 5-6.

Rates for Respondents Not Selected for Individual Examination

Commerce did not select the following companies for individual examination: Talleres y Aceros S.A. de C.V. (Talleres y Aceros), and Ternium Mexico S.A. de C.V. (Ternium). Further, neither of these firms: Was the subject of a withdrawal of request for review; requested to participate as a voluntary respondent; submitted a claim of no shipments; nor was not otherwise collapsed with a mandatory respondent. As such, these companies remain respondents not selected for individual examination. As explained in the Issues and Decision Memorandum, we have assigned to Talleres y Aceros and Ternium the weighted-average dumping margin calculated for Deacero.

Final Results of the Review

Commerce determines that the following weighted-average dumping margins exist for the period October 1, 2018 through September 30, 2019:

Producers/exporters | Weighted- average dumping margins (percent)
Deacero S.A.P.I de C.V | 9.82
Talleres y Aceros S.A. de C.V | 9.82
Ternium Mexico S.A. de C.V | 9.82

Disclosure

We intend to disclose the calculations performed to parties in this proceeding within five days after publication of these final results in the Federal Register, in accordance with 19 CFR 351.224(b).

Assessment Rates

Pursuant to section 751(a)(2)(A) of the Act, and 19 CFR 351.212(b)(1), Commerce will determine, and CBP shall assess, antidumping duties on all appropriate entries of subject merchandise in accordance with the final results of this review.

For Deacero, Commerce has calculated importer-specific antidumping duty assessment rates by aggregating the total amount of dumping calculated for the examined sales of each importer and dividing each of these amounts by the total entered value associated with those sales in accordance with 19 CFR 351.212(b)(1). Pursuant to 19 CFR 351.106(c)(2), we will instruct CBP to liquidate without regard to antidumping duties any entries for which the importer-specific assessment rate is zero or de minimis. For entries of subject merchandise during the POR produced by Deacero for which it did not know its merchandise was destined for the United States, we will instruct CBP to liquidate unreviewed entries at the all-others rate if there is no rate for the intermediate company(ies) involved in the transaction. For the companies not selected for individual examination, we will instruct CBP to apply an assessment rate to all entries produced and/or exported by those companies equal to the dumping margin indicated above. Commerce intends to issue assessment instructions to CBP 41 days after the date of publication of these final results of review.⁹

⁹ See 19 CFR 356.8(a).

Cash Deposit Requirements

The following cash deposit requirements will be effective upon publication of the notice of final results of administrative review for all shipments of subject merchandise entered, or withdrawn from warehouse, for consumption on or after the publication of the final results of this administrative review, as provided by section 751(a)(2) of the Act: (1) For producers or exporters covered in this administrative review, the cash deposit rates will be the rates established in the final results of this administrative review; (2) for producers or exporters not covered in this administrative review but covered in a prior segment of the proceeding, the cash deposit rate will continue to be the company-specific rate published for the most recent period; (3) if the exporter is not a firm covered in this review, a prior review, or the original investigation, but the producer is, then the cash deposit rate will be the rate established for the most recent period for the producer of the merchandise; and (4) the cash deposit rate for all other producers or exporters will continue to be 20.11 percent, the all-others rate established in the investigation.¹⁰ These cash deposit requirements, when imposed, shall remain in effect until further notice.

¹⁰ See Order, 67 FR at 65947.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i)(1) of the Act, and 19 CFR 351.213(h).

Dated: August 11, 2021.
Christian Marsh,
Acting Assistant Secretary for Enforcement and Compliance.

Appendix

List of Topics Discussed in the Final Decision Memorandum

I. Summary

II. Background

III. Scope of the Order

IV. Final Determination of No Shipments

V. Margin for Companies Not Selected for Individual Examination

VI. Changes Since the Preliminary Results

VII. Discussion of Comments

Comment 1: Whether Commerce Should Treat Section 232 Duties as United States Import Duties and Whether Commerce Made a Clerical Error When Deducting Section 232 Duties from U.S. Price

Comment 2: Whether Commerce Made a Clerical Error Regarding the Treatment of Early Payment Discounts

Comment 3: Whether Commerce Made a Clerical Error Regarding the Selection of Customer Code

VIII. Recommendation

[FR Doc. 2021-17650 Filed 8-17-21; 8:45 am]

BILLING CODE 3510-DS-P